DEPARTMENT OF TRANSPORTATION

Federal Highway Administration

Environmental Impact Statement: Campbell County, VA and City of Lynchburg

AGENCY: Federal Highway Administration, DOT.

ACTION: Notice of intent.

SUMMARY: The Federal Highway Administration (FHWA) is issuing this notice to advise the public of its intent to prepare an Environmental Impact Statement (EIS) in cooperation with the Virginia Department of Transportation (VDOT) for a proposed Route 29 South Bypass Improvement Project in Campbell County and the City of Lynchburg to address safety and capacity issues and to enhance mobility and economic competitiveness.

FOR FURTHER INFORMATION CONTACT: Jerry Combs, Transportation Specialist, Federal Highway Administration, Post Office Box 10249, Richmond, Virginia 23240-0249, Telephone (804) 775-3340 or Jeffrey L. Rodgers, Environmental Specialist II, Virginia Department of Transportation, 1401 East Broad Street, Richmond, Virginia, 23219-2000, Telephone (804) 371-6785.

SUPPLEMENTARY INFORMATION: The FHWA, in cooperation with the VDOT, will prepare an EIS for the proposed Route 29 South Bypass Improvement Project in Campbell County and City of Lynchburg. The proposed project would connect Route 29 south of Lynchburg with Route 460 and the Route 29 Madison Heights Bypass east of Lynchburg with a combination of improvements including the construction of a four-lane divided limited access highway on new location and the improvement of existing facilities. Where alternatives overlap existing Route 460, a six-to-eight lane typical section on Route 460 would be necessary. The length of the proposed improvement ranges from 12.8 miles to 21 miles depending upon the alternative being considered.

Recognizing that the National Environmental Policy Act (NEPA) process requires the consideration of a reasonable range of alternatives that will address the purpose and need, the EIS will include a range of alternatives for study consisting of a no-build alternative as well as five build alternatives with each consisting of improvements to existing roadways and new alignment facilities. Other alternatives, such as mass transit, transportation system management options, access management, upgrade of existing facilities and other alignments to the east and to the west considered and eliminated from consideration as reasonable alternatives. The five build alternatives and the no-build alternative will be forwarded for analysis in the draft EIS based on their ability to address the purpose and need while avoiding known and sensitive resources.

Route 29 is a designated corridor of national and state significance with the South Lynchburg Bypass being recognized as a key element with needed improvements. Location and environmental studies began as far back as 1994. A citizen information meeting was held in January 1994 to solicit input for the studies and again on January 19 and 21, 1999, to discuss the eastern and western alternatives that were developed as a result of the comments received from the first meeting. This proposed project was presented at the regularly scheduled VDOT interagency coordination meeting on February 16, 1999. Partnering meetings were held on May 18 and September 21, 1999. This EIS will build upon the scoping, engineering, and environmental work as well as the public involvement effort conducted to date. Coordination with the appropriate Federal, State, and local agencies, private organizations, citizens, and interest groups who have expressed or are known to have an interest in this proposal will continue.

Notices of public hearing will be given through various forums providing the time and place of the meeting along with other relevant information. The draft EIS will be available for public and agency review and comment prior to the public hearing.

To ensure that the full range of issues related to this proposed action are identified and taken into account, comments and input are invited from all interested parties. Comments and questions concerning the proposed action and draft EIS should be directed to FHWA at the address provided above and should be submitted within 30 days of its publication in the Federal Register.

(Catalog of Federal Domestic Assistance Program Number 20.205, Highway Planning and Construction. The regulations implementing Executive Order 12372 regarding intergovernmental consultation on Federal programs and activities apply to this proposed action.)

Authority: 23 USC 315; 49 CFR 1.48

Issued on: February 25, 2002.
Jerry Combs,
Transportation Specialist.

[FR Doc. 02-5005 Filed 3-1-02; 8:45 am]

BILLING CODE 4910-22-M